ENVIRONMENTAL PROTECTION AGENCY

40 CFR Parts 52 and 81

[EPA-R07-OAR-2017-0734; FRL 9981-29-Region 7]

Air Plan Approval and Air Quality Designation; MO; Redesignation of the Missouri Portion of the St. Louis Missouri-Illinois Area to Attainment of the 1997 Annual Standards for Fine Particulate Matter and Approval of Associated Maintenance Plan

AGENCY: Environmental Protection Agency (EPA).

ACTION: Direct final rule.

SUMMARY: On January 5, 2018, the Environmental Protection Agency (EPA) published in the Federal Register an advanced notice of proposed rulemaking (ANPR) specifically requesting early input and comments on the Agency's interpretation that air quality monitoring data from 2015-2017 support a finding that the Missouri Portion of the St. Louis nonattainment area attains the 1997 Annual National Ambient Air Quality Standards (NAAQS) for fine particulate matter (PM2.5). The notice also provided an evaluation of Missouri's 1997 Annual PM2.5 NAAQS maintenance plan, which includes the 2008 and 2025 NOX and PM2.5 motor vehicle emission budgets (MVEBs) and established the 2008 base year emissions inventory. EPA received no comments on the ANPR. EPA is now taking direct final action on three items, consistent with the ANPR. First, EPA is approving the state's request to redesignate the Missouri portion of the St. Louis MO-IL nonattainment area to attainment for the 1997 Annual PM2.5 NAAQS as the monitoring values demonstrate the area attains the standard. Second, EPA is approving the state implementation plan (SIP) revision containing a maintenance plan for the Missouri portion of the area including the motor vehicle emissions budget. Third, EPA is approving Missouri's 2008 base year emissions inventory in accordance with section 172(c)(3) of the CAA.

DATES: This direct final rule will be effective October 2, 2018, without further notice, unless EPA receives adverse comment by September 4, 2018. If EPA receives adverse comment, we will publish a timely withdrawal of the direct final rule in the Federal Register informing the public that the rule will not take effect.

ADDRESSES: Submit your comments, identified by Docket ID No. EPA-R07-OAR-2017-0734, to https://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit https://www2.epa.gov/dockets/commenting-epa-dockets.

FOR FURTHER INFORMATION CONTACT: Lachala Kemp, Environmental Protection Agency, Air Planning and Development Branch, 11201 Renner Boulevard, Lenexa, Kansas 66219 at (913) 551-7214, or by email at kemp.lachala@epa.gov.

SUPPLEMENTARY INFORMATION: Throughout this document “we,” “us,” and “our” refer to EPA. This section provides additional information by addressing the following:

I. What is being addressed in this document?

II. Have the requirements for approval of a SIP revision been met?

III. What action is EPA taking?

IV. Statutory and Executive Order Reviews

I. What is being addressed in this document?

EPA is approving actions related to Missouri's request to redesignate the Missouri portion of the St. Louis area to attainment for the 1997 Annual PM2.5 standards. On September 2, 2011, and subsequently on March 31, 2014, and on September 17, 2014,¹ Missouri, through the Missouri Department of Natural Resources (MDNR) submitted requests for EPA to redesignate the Missouri portion of the St. Louis MO-IL nonattainment area to attainment for the 1997 Annual National Ambient Air Quality Standards (NAAQS) for fine particulate matter (PM2.5) and approve a state implementation plan (SIP) revision containing a maintenance plan for the Missouri portion of the area. On January 5, 2018, EPA published an Advanced Notice of Proposed Rulemaking (ANPR) on the related actions and received no comments. See 83 FR 636. In this rulemaking action, EPA is taking direct final action to approve the state's request. In addition, EPA is also taking direct final action to approve Missouri's 2008 base year emissions inventory in accordance with section 172(c)(3) of the CAA.

¹ The date of the original submission is September 2, 2011. Missouri supplemented and revised their request on March 31, 2014, September 17, 2014, and May 23, 2017. The May 27, 2017, letter requested EPA to take action on the prior submission, but did not include additional documentation. EPA considered all submissions in reviewing this action.

II. Have the requirements for approval of a SIP revision been met?

The state's submission has met the public notice requirements for the redesignation request and maintenance plan submission in accordance with 40 CFR 51.102. The submission also satisfied the completeness criteria of 40 CFR part 51, appendix V. The state held a public comment period from December 30, 2013 to February 6, 2014, and received three comments from the EPA. A public hearing was held on January 30, 2014.

III. What action is EPA taking?

Consistent with the strategy outlined in the ANPR, published in January 2018, EPA is taking direct final action to approve Missouri's request to redesignate the St. Louis bi-state nonattainment area for the 1997 Annual PM2.5 National Ambient Air Quality Standards and approve a state implementation plan (SIP) revision containing a maintenance plan for the Missouri portion of the area, and officially redesignate the area from nonattainment to attainment. EPA is also taking direct final action on Missouri's 2008 emission inventory.

Missouri submitted their first request to determine attainment and redesignation on September 1, 2011. The state then supplemented and revised their request on March 31, 2014, and on September 17, 2014. In this direct final rule, when EPA refers to Missouri's submission, we are referring to information provided in the 2011 and 2014 submissions and the additional clarifying information together unless otherwise specified.

EPA evaluated Missouri's request and plan consistent with section 175A of the CAA and EPA's supplemental analysis that the area will continue to maintain the 2008 ozone NAAQS following redesignation. The Missouri counties comprising the St. Louis area are Franklin, Jefferson, St. Charles and St. Louis. The City of St. Louis is also part of the nonattainment area. Because we did not receive public comments on the advanced notice of proposed rulemaking for this action, we are publishing this as a direct final rule as we view this as a noncontroversial action and anticipate no adverse comment. However, in the “Proposed Rules” section of this Federal Register, we are publishing a separate document that will serve as the proposed rule to approve the SIP revision if adverse comments are received on this direct final rule. We will not institute a second comment period on this action. Any parties interested in commenting must do so at this time. For further information about commenting on this rule, see the ADDRESSES section of this document. If EPA receives adverse comment, we will publish a timely withdrawal in the Federal Register informing the public that this direct final rule will not take effect. We will address all public comments in any subsequent final rule based on the proposed rule.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of the National Technology Transfer and Advancement Act (NTTA) because this rulemaking does not involve technical standards; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

List of Subjects

40 CFR Part 52

Environmental protection, Air pollution control, Incorporation by reference, Intergovernmental relations, Nitrogen dioxide, Particulate matter, Reporting and recordkeeping requirements, Sulfur oxides, Volatile organic compounds.

40 CFR Part 81

Environmental protection, Administrative practice and procedure, Air pollution control, Designations and classifications, Intergovernmental relations, Nitrogen dioxide, Particulate matter, Reporting and recordkeeping requirements, Sulfur oxides, Volatile organic compounds.

Dated: July 16, 2018.
James B. Gulliford,
Regional Administrator, Region 7.

For the reasons stated in the preamble, EPA amends 40 CFR parts 52 and 81 as set forth below:

PART 52—APPROVAL AND PROMULGATION OF IMPLEMENTATION PLANS

1. The authority citation for part 52 continues to read as follows:

Authority: 42 U.S.C. 7401 et seq.

Subpart AA—Missouri

* * * * *

2. Revise § 52.1341 to read as follows:

§ 52.1341 Control strategy: Particulate.

(a) Determination of attainment. EPA has determined, as of May 23, 2011, that the St. Louis (MO-IL) metropolitan 1997 PM2.5 nonattainment area has attained the 1997 PM2.5 NAAQS. This determination, in accordance with 40 CFR 51.1004(c), suspends the requirements for this area to submit an attainment demonstration, associated reasonably available control measures, reasonable further progress, contingency measures, and other plan elements related to attainment of the standards for as long as the area continues to meet the 1997 PM2.5 NAAQS. In addition, based upon EPA's review of the air quality data for the three-year period 2007 to 2009, the St. Louis (MO-IL) PM2.5 nonattainment area has attained the 1997 PM2.5 NAAQS by the applicable attainment date of April 5, 2010.

(b) Redesignation to attainment. On September 1, 2011, and on March 31, 2014 and on September 17, 2014, Missouri submitted requests to redesignate the Missouri portion of the St. Louis MO-IL area to attainment of the 1997 Annual PM2.5 standard. The Missouri portion of the St. Louis MO-IL area includes Jefferson, Franklin, St. Charles, and St. Louis Counties along with the City of St. Louis. As part of the redesignation request, the State submitted a plan for maintaining the 1997 Annual PM2.5 standard through 2025 in the area as required by section 175A of the Clean Air Act.

PART 81—DESIGNATION OF AREAS FOR AIR QUALITY PLANNING PURPOSES

3. The authority citation for part 81 continues to read as follows:

Authority: 42 U.S.C. 7401 et seq.

Subpart C—Section 107 Attainment Status Designations

* * * * *

4. Section 81.326 is amended by revising the entry for “St. Louis MO-IL” in the table entitled “Missouri—1997 Annual PM2.5 NAAQS (Primary and Secondary)” to read as follows:

§ 81.326 Missouri

* * * * *

Missouri-1997 Annual PM2.5 NAAQS
[Primary and secondary]
Designated area | Designation ᵃ: Date ¹ | Designation ᵃ: Type | Classification: Date ² | Classification: Type
St. Louis, MO-IL:
Franklin County | August 3, 2018 | Attainment |  |
Jefferson County | August 3, 2018 | Attainment |  |
St. Charles County | August 3, 2018 | Attainment |  |
St. Louis County | August 3, 2018 | Attainment |  |
St. Louis City | August 3, 2018 | Attainment |  |
* * * * * * *
ᵃ Includes Indian Country located in each county or area, except as otherwise specified.
¹ This date is 90 days after January 5, 2005, unless otherwise noted.
² This date is July 2, 2014, unless otherwise noted.

* * * * *

[FR Doc. 2018-16003 Filed 8-2-18; 8:45 am]

BILLING CODE 6560-50-P